U.S. COMMITTEE ON THE MARINE TRANSPORTATION SYSTEM

[Docket No. DOT-OST-2024-0044]

Request for Information To Identify Barriers to Planning for Climate Resilience in U.S. Ports; Reopening of Comment Period

AGENCY: U.S. Committee on the Marine Transportation System.

ACTION: Notice; request for information (RFI); reopening of comment period.

SUMMARY: On July 15, 2024, the CMTS published in the Federal Register an RFI seeking information to identify what types of planning guidance, documents, datasets, and Federal funding opportunities are currently being utilized in planning for long-term environmental change in U.S. Ports, and to identify barriers to action. The information received from this RFI will be analyzed to assess whether the needs for this type of planning are being met and identify where improvements could be made. Information is requested from anyone who works in or adjacent to climate resilience planning and execution in ports (public and private), as well as any interested members of the public. That RFI established a 45-day comment period closing on August 29, 2024. CMTS is reopening the public comment period until September 30, 2024.

DATES: The comment period for the notice published on July 15, 2024 (89 FR 57389) is reopened. The due date for submitting comments is September 30, 2024.

ADDRESSES: Please submit any written comments to Docket Number DOT-OST-2024-0044 electronically through the Federal eRulemaking Portal at regulations.gov. Due to time constraints, comments received after the deadline may not be incorporated or taken into consideration.

Instructions: Federal eRulemaking Portal: Go to www.regulations.gov to submit your comments electronically. Information on how to use Regulations.gov, including instructions for accessing agency documents, submitting comments, and viewing the docket, is available on the site under “FAQ” (https://www.regulations.gov/faq).

Privacy Note: CMTS's policy is to make all comments received from members of the public available for public viewing in their entirety on the Federal eRulemaking Portal at www.regulations.gov. Therefore, commenters should be careful to include in their comments only information that they wish to make publicly available. CMTS requests that no proprietary information, copyrighted information, or personally identifiable information be submitted in response to this RFI.

FOR FURTHER INFORMATION CONTACT: Heather Gilbert, Senior Policy Advisor, U.S. Committee on the Marine Transportation System; telephone (202) 366-3612; email heather.gilbert@cmts.gov.

SUPPLEMENTARY INFORMATION: All other information in the original RFI from July 15, 2024 (89 FR 57389) remains the same. It can be found at https://www.federalregister.gov/documents/2024/07/15/2024-15356/request-for-information-to-identify-barriers-to-planning-for-climate-resilience-in-us-ports. The Department considers any comments submitted between August 29, 2024 and September 16, 2024 to be timely submitted.

Authority: 46 U.S.C. 50401.

Issued in Washington, DC.
Ashley Chappell,
Executive Director, U.S. Committee on the Marine Transportation System.

[FR Doc. 2024-21463 Filed 9-18-24; 8:45 am]

BILLING CODE 4910-9X-P